DEPARTMENT OF LABOR

Employment and Training Administration

[TA-W-41,600]

Columbia Sportswear Company, Portland, OR; Notice of Negative Determination Regarding Application for Reconsideration

By application received on October 16, 2002, a petitioner requested administrative reconsideration of the Department's negative determination regarding eligibility for workers and former workers of the subject firm to apply for Trade Adjustment Assistance (TAA). The denial notice applicable to workers of Columbia Sportswear Company, Portland, Oregon was signed on September 25, 2002, and published in the Federal Register on September 27, 2002 (67 FR 61160).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Columbia Sportswear Company, Portland, Oregon engaged in activities related to the design services for sportswear apparel. The petition was denied because the petitioning workers did not produce an article within the meaning of section 222(3) of the Act.

The petitioner alleges that the same workers were certified in 1996, and attached a copy of a certification for the Portland facility (TA-W-31,649).

A review of this certification reveals that cutters and sewers were part of the petitioning worker group and, as such, were determined to be engaged in production of an article within the meaning of section 222(3) of the Act. Workers engaged in design services were in support of this production and were also determined to be eligible. However, in the current negative determination under reconsideration, the petitioning worker group did not include production workers, and therefore workers providing design services cannot be grouped with production workers.

The petitioner alleges that the workers are not engaged in “bookkeeping services” as addressed in the “Negative Determination Regarding Eligibility To Apply for Worker Adjustment Assistance”.

A review of the initial investigation indicates that the workers were engaged in design services for sportswear apparel. The TAA decision was based on the correct service function provided by the petitioning workers. The Department inadvertently referenced “bookkeeping” rather than “design” services in the decision.

Finally, the petitioner alleges that subject firm workers produced a product, and that they were not engaged in “providing design services.”

In clarifying their job function, the petitioner states that the petitioning worker group “were a group of technicians who made the first patterns, sized patterns and figured out how much fabric those patterns (required),” concluding that the work was done “on a computer system.” The fact that the pattern-making was generated electronically and did not involve a physical product constitutes a service rather than the production of an article as established by section 222(3) of the Act.

Only in very limited instances are service workers certified for TAA, namely the worker separations must be caused by a reduced demand for their services from a parent or controlling firm or subdivision whose workers produce an article and who are currently under certification for TAA.

Further, even if the patterns generated by the petitioning worker group were considered articles, they are shipped to an affiliated offshore facility, where they are incorporated into mass produced sportswear apparel. Thus, since the company does not import patterns, there would be no evidence of import impact.

Conclusion

After review of the application and investigative findings, I conclude that there has been no error or misinterpretation of the law or of the facts which would justify reconsideration of the Department of Labor's prior decision. Accordingly, the application is denied.

Signed at Washington, DC, this 26th day of February, 2003.
Edward A. Tomchick,
Director, Division of Trade Adjustment Assistance.

[FR Doc. 03-6417 Filed 3-17-03; 8:45 am]

BILLING CODE 4510-30-P